DEPARTMENT OF HOMELAND SECURITY

Coast Guard

33 CFR Parts 4, 19, 84, 101, 104, 118, 127, 140, 154, 161, 164, 169, 174, 181, and 183

[USCG-2004-18057]

RIN 1625-ZA02

Navigation and Navigable Waters; Technical, Organizational, and Conforming Amendments

AGENCY: Coast Guard, DHS.

ACTION: Final rule.

SUMMARY: This rule makes non-substantive changes throughout the Code of Federal Regulations. The purpose of this rule is to update organization names and addresses and make conforming amendments and technical corrections to Coast Guard navigation and navigable water regulations. This rule will have no substantive effect on the regulated public.

DATES: This rule is effective June 30, 2004.

ADDRESSES: Any comments and material received from the public will be made part of docket, USCG-2004-18057, and will be available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Robert S. Spears, Coast Guard, telephone 202-267-1099. If you have questions on viewing the docket, call Andrea M. Jenkins, Program Manager, Docket Operations, telephone 202-366-0271.

SUPPLEMENTARY INFORMATION:

Regulatory History

We did not publish a notice of proposed rulemaking (NPRM) for this regulation. Under both 5 U.S.C. 553(b)(A) and (b)(B), the Coast Guard finds that this rule is exempt from notice and comment rulemaking requirements because some of these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Discussion of the Rule

Each year title 33 of the Code of Federal Regulations is updated on July 1. This rule, which becomes effective June 30, 2004, corrects organization names and addresses, and makes other technical and editorial corrections throughout title 33. This rule does not create any substantive requirements.

Some of the revisions in this rule are not necessarily self-explanatory changes. For example, in § 4.02 we updated the listing of approved collections of information based on information requirements in Title 33. In parts 101 and 104, we replaced SOLAS “Chapter XI” references with “Chapter XI-1 or Chapter XI-2” to conform these chapter references to the Federal Register approved reference, used in the relevant incorporation by reference section, § 101.115(b). In §§ 118.3, 127.003, 140.7, 154.106, 164.03, 181.4, and 183.5, we changed references to material incorporated by reference as being “available for inspection” rather than merely “on file” to align these sections with other incorporation by reference sections.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

This rule will have no substantive effect on the regulated public. Therefore, the Coast Guard certifies under 5 U.S.C. 605(b) that this final rule will not have a significant economic impact on a substantial number of small entities.

Collection of Information

This rule calls for no new collection of information under the Paperwork Reduction Act of 1995 (44 U.S.C. 3501-3520). We note, however, that in 33 CFR 4.02, this rule updates the listing of approved collections of information based on information requirements contained in title 33.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in an expenditure of this magnitude, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal government and Indian tribes, or on the distribution of power and responsibilities between the Federal government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. A final “Environmental Analysis Check List” and a final “Categorical Exclusion Determination” are available in the docket where indicated under ADDRESSES.

List of Subjects

33 CFR Part 4

Reporting and recordkeeping requirements.

33 CFR Part 19

Navigation (water), Vessels.

33 CFR Part 84

Navigation (water), Waterways.

33 CFR Part 101

Harbors, Maritime security, Reporting and recordkeeping requirements, Security measures, Vessels, Waterways.

33 CFR Part 104

Maritime security, Reporting and recordkeeping requirements, Security measures, Vessels.

33 CFR Part 118

Bridges.

33 CFR Part 127

Fire prevention, Harbors, Hazardous substances, Natural gas, Reporting and recordkeeping requirements, Security measures.

33 CFR Part 140

Continental shelf, Investigations, Marine safety, Occupational safety and health, Penalties, Reporting and recordkeeping requirements.

33 CFR Part 154

Alaska, Fire prevention, Hazardous substances, Oil pollution, Reporting and recordkeeping requirements.

33 CFR Part 161

Harbors, Navigation (water), Reporting and recordkeeping requirements, Waterways.

33 CFR Part 164

Marine safety, Navigation (water), Reporting and recordkeeping requirements, Waterways.

33 CFR Part 169

Endangered and threatened species, Marine mammals, Navigation (water), Radio, Reporting and recordkeeping requirements, Vessels, Water pollution control.

33 CFR Part 174

Intergovernmental relations, Marine safety, Reporting and recordkeeping requirements.

33 CFR Part 181

Labeling, Marine safety, Reporting and recordkeeping requirements.

33 CFR Part 183

Marine safety.

For the reasons discussed in the preamble, the Coast Guard amends 33 CFR parts 4, 19, 84, 101, 104, 118, 127, 140, 154, 161, 164, 169, 174, 181, and 183.

PART 4—OMB CONTROL NUMBERS ASSIGNED PURSUANT TO THE PAPERWORK REDUCTION ACT

1. The authority citation for part 4 is revised to read as follows:

Authority: 44 U.S.C. 3507; Department of Homeland Security Delegation No. 0170.1.

2. Revise § 4.02 to read as follows:

§ 4.02 Display.

33 CFR part or section where identified and described | Current OMB control No.
Part 6 | 1625-0020
Part 67 | 1625-0011
Part 96 | 1625-0084
Part 100 | 1625-0008
Part 101 | 1625-0077
Section 101.115 | 1625-0017
Part 103 | 1625-0077
Part 104 | 1625-0077
Section 104.297 | 1625-0017
Part 105 | 1625-0077
Part 106 | 1625-0077
Part 115 | 1625-0015
Part 116 | 1625-0073
Part 120 | 1625-0077
Section 126.15(c) | 1625-0016
Section 126.17 | 1625-0005
Part 127 | 1625-0049
Section 127.617 | 1625-0016
Section 127.1603 | 1625-0016
Part 128 | 1625-0077
Part 130 | 1625-0046
Part 138 | 1625-0046
Section 140.15 | 1625-0050
Section 140.103 | 1625-0054
Section 141.35 | 1625-0098
Part 143 | 1625-0059
Part 144 | 1625-0059
Part 145 | 1625-0059
Part 146 | 1625-0001 and 1625-0059
Section 146.130 | 1625-0044
Section 146.140 | 1625-0059
Section 146.210 | 1625-0059
Part 151 | 1625-0009
Section 151.19 | 1625-0041
Section 151.21 | 1625-0041
Section 151.43 | 1625-0045
Section 151.55 | 1625-0072
Section 151.57 | 1625-0072
Section 151.2040 | 1625-0069
Section 153.203 | 1625-0096
Section 154.107 | 1625-0095
Section 154.108 | 1625-0095
Section 154.110 | 1625-0093
Section 154.300 through 154.325 | 1625-0021
Section 154.710 | 1625-0039
Section 154.740 | 1625-0039
Section 154.804 | 1625-0060
Section 154.806 | 1625-0060
Section 154.1220 | 1625-0066
Section 154.1225 | 1625-0066
Section 155.120 | 1625-0051 and 1625-0095
Section 155.130 | 1625-0051 and 1625-0095
Section 155.710 | 1625-0072
Section 155.715 | 1625-0072
Section 155.720 | 1625-0030
Section 155.740 | 1625-0030
Section 155.750 | 1625-0030
Section 155.820 | 1625-0030
Section 155.820(d) | 1625-0039
Section 156.107 | 1625-0095
Section 156.110 | 1625-0095
Section 156.120 | 1625-0039
Section 156.150 | 1625-0039
Part 156, Subpart B | 1625-0042
Section 156.200 | 1625-0042
Part 157 | 1625-0036 and 1625-0041
Section 157.37 | 1625-0041
Section 157.415 | 1625-0083
Section 157.420 | 1625-0083
Section 157.430 | 1625-0083
Section 157.435 | 1625-0083
Section 157.450 | 1625-0083
Section 157.455 | 1625-0083
Part 158 | 1625-0045
Section 158.140 | 1625-0045
Section 158.150 | 1625-0045
Section 158.165 | 1625-0045
Section 158.190 | 1625-0045
Part 159 | 1625-0041 and 1625-0092
Part 160 | 1625-0043 and 1625-0100
Part 161 | 1625-0043
Part 164 | 1625-0043 and 1625-0082
Part 165 | 1625-0020 and 1625-0043
Section 165.100 | 1625-0088
Section 165.803(i) | 1625-0023
Section 165.1709 | 1625-0043
Section 169.140 | 1625-0103
Section 173.55 | 1625-0003
Section 179.13 | 1625-0010
Section 179.15 | 1625-0010
Section 181.21 through 181.31 | 1625-0056
Part 183 | 1625-0056
Part 187 | 1625-0070

PART 19—WAIVERS OF NAVIGATION AND VESSEL INSPECTION LAWS AND REGULATIONS

3. The authority citation for part 19 is revised to read as follows:

Authority: Sec. 1, 64 Stat. 1120, sec. 6(b)(1), 80 Stat. 937; 46 U.S.C. note prec. 1, 49 U.S.C. 108; Department of Homeland Security Delegation No. 0170.1

§ 19.06 [Amended]

4. In § 19.06, in paragraphs (a), (b), (b)(2), and (d), remove the words “Military Sea Transportation Service” wherever they appear, and add, in their place, the words “Military Sealift Command”.

PART 84—ANNEX I: POSITIONING AND TECHNICAL DETAILS OF LIGHTS AND SHAPES

5. The authority citation for part 84 is revised to read as follows:

Authority: 33 U.S.C. 2071; Department of Homeland Security Delegation No. 0170.1.

§ 84.13 [Amended]

6. In § 84.13(a), insert the words “and is available for inspection at the Coast Guard, Ocean Engineering Division (G-SEC-2), 2100 Second Street SW, Washington, DC 20593-0001” immediately after the zip code “10017”.

* * * * *

PART 101—GENERAL PROVISIONS

7. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.105 [Amended]

8. In § 101.105, in the definition for “Public access facility”, remove the words “SOLAS Chapter XI” and replace them with the words, “SOLAS Chapter XI-1 or SOLAS Chapter XI-2”.

§ 101.305 [Amended]

9. In § 101.305(a), remove the words “Email: lst-nrcinfo@comdt.uscg.mil”, and add, in their place, the words “use the NRC Web Reporting function located on the NRC Web Site: http://www.nrc.uscg.mil/”.

PART 104—MARITIME SECURITY: VESSELS

10. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.105 [Amended]

11. In § 104.105, in paragraph (a)(1) remove the words “Chapter XI” and add, in their place, the words, “Chapter XI-1 or Chapter XI-2”.

§ 104.115 [Amended]

12. In § 104.115 (c)(1) and (c)(2), remove the words “Chapter XI”, and add, in their place, the words “Chapter XI-1 or Chapter XI-2”.

§ 104.120 [Amended]

13. In § 104.120(a)(4), remove the words “Chapter XI”, and add, in their place, the words “Chapter XI-1 or Chapter XI-2”.

§ 104.400 [Amended]

14. In § 104.400(b), remove the words “Chapter XI”, and add, in their place, the words “Chapter XI-1 or Chapter XI-2”.

PART 118—BRIDGE LIGHTING AND OTHER SIGNALS

15. The authority for part 118 is revised to read as follows:

Authority: 33 U.S.C. 494; 14 U.S.C. 85, 633; Department of Homeland Security Delegation No. 0170.1.

§ 118.3 [Amended]

16. In § 118.3(b), remove the words “on file”, and add, in their place, the words “available for inspection”.

PART 127—WATERFRONT FACILITIES HANDLING LIQUEFIED NATURAL GAS AND LIQUEFIED HAZARDOUS GAS

17. The authority citation for part 127 is revised to read as follows:

Authority: 33 U.S.C. 1231; Department of Homeland Security Delegation No. 0170.1.

§ 127.003 [Amended]

18. In § 127.003(a), remove the words “on file”, and add, in their place, the words “available for inspection”.

PART 140—GENERAL

19. The authority citation for part 140 is revised to read as follows:

Authority: 43 U.S.C. 1333, 1348, 1350, 1356; Department of Homeland Security Delegation No. 0170.1.

§ 140.7 [Amended]

20. In § 140.7(a), remove the words “on file”, and add, in their place, the words “available for inspection”.

PART 154—FACILITIES TRANSFERRING OIL OR HAZARDOUS MATERIAL IN BULK

21. The authority citation for part 154 is revised to read as follows:

Authority: 33 U.S.C. 1231, 1321(j)(1)(C), (j)(5), (j)(6), and (m)(2); sec. 2, E.O. 12777, 56 FR 54757; Department of Homeland Security Delegation No. 0170.1. Subpart F is also issued under 33 U.S.C. 2735.

§ 154.106 [Amended]

22. In § 154.106(a), remove the words “on file”, and add, in their place, the words “available for inspection”.

PART 161—VESSEL TRAFFIC MANAGEMENT

23. The authority citation for part 161 continues to read as follows:

Authority: 33 U.S.C. 1223, 1231; 46 U.S.C. 70114, 70117; Pub. L. 107-295, 116 Stat. 2064; Department of Homeland Security Delegation No. 0170.1.

§ 161.12 [Amended]

24. In § 161.12(c), in Table 161.12(c), in the third column of the three “New York Traffic” rows, insert the degree symbol, “°”, immediately after, “40” and “74”, wherever those numbers appear.

PART 164—NAVIGATION SAFETY REGULATIONS

25. The authority citation for part 164 is revised to read as follows:

Authority: 33 U.S.C. 1222(5), 1223, 1231; 46 U.S.C. 2103, 3703; Department of Homeland Security Delegation No. 0170.1. Sec. 164.13 also issued under 46 U.S.C. 8502. Sec. 164.61 also issued under 46 U.S.C. 6101.

§ 164.03 [Amended]

26. In § 164.03(a), remove the words “on file”, and add, in their place, the words “available for inspection”.

PART 169—SHIP REPORTING SYSTEMS

27. The authority citation for part 169 is revised to read as follows:

Authority: 33 U.S.C. 1230(d), Department of Homeland Security Delegation No. 0170.1.

PART 169—[AMENDED]

28. In the Table of Contents for part 169, insert the words, “Subpart A—General” immediately after the title of the part and before the listing of sections.

PART 174—STATE NUMBERING AND CASUALTY REPORTING SYSTEMS

29. The authority citation for part 174 is revised to read as follows:

Authority: 46 U.S.C. 6101, 12302; Department of Homeland Security Delegation No. 0170.1.

§ 174.121 [Amended]

30. In § 174.121, remove the abbreviation “(G-OCC)”, and add, in its place, the abbreviation “(G-OPB)”.

PART 181—MANUFACTURER REQUIREMENTS

31. The authority citation for part 181 is revised to read as follows:

Authority: 46 U.S.C. 4302 and 4310; Pub. L. 103-206, 107 Stat. 2439; Department of Homeland Security Delegation No. 0170.1.

§ 181.4 [Amended]

32. In § 181.4(a), remove the words “on file”, and add, in their place, the words “available for inspection”.

PART 183—BOATS AND ASSOCIATED EQUIPMENT

33. The authority citation for part 183 continues to read as follows:

Authority: 46 U.S.C. 4302; Pub. L 103-206, 107 Stat. 2439; Department of Homeland Security Delegation No. 0170.1.

§ 183.5 [Amended]

34. In § 183.5(a), remove the words “on file”, and add, in their place, the words “available for inspection”.

Dated: June 17, 2004.
Howard L. Hime,
Acting Director of Standards, Marine Safety, Security and Environmental Protection, U.S. Coast Guard.

[FR Doc. 04-14199 Filed 6-22-04; 8:45 am]

BILLING CODE 4910-15-P